DEPARTMENT OF DEFENSE

Department of the Army

Western Hemisphere Institute for Security Cooperation Board of Visitors; Meeting

AGENCY: Department of the Army, DoD.

ACTION: Notice of open meeting.

SUMMARY: This notice sets forth the schedule and summary agenda for the fall meeting of the Board of Visitors (BoV) for the Western Hemisphere Institute for Security Cooperation (WHINSEC). Notice of this meeting is required under the Federal Advisory Committee Act (Pub. L. 92-463). The Board's charter was renewed on February 1, 2006 in compliance with the requirements set forth in Title 10 U.S.C. 2166.

Date: Friday, November 2, 2007.

Time: 8 a.m. to 3 p.m.

Location: WHINSEC, 35 Ridgeway Loop, Room 219, Fort Benning, GA

Proposed Agenda: The WHINSEC BoV will be briefed on activities at the Institute since the last Board meeting on June 14, 2007 as well as receive other information appropriate to its interests. The BoV will be visiting classes from 9:30 a.m. to 1 p.m.

FOR FURTHER INFORMATION CONTACT: WHINSEC Board of Visitors Secretariat at (703) 692-7852 or (703) 692-8221.

SUPPLEMENTARY INFORMATION: At the time specified, the meeting is open to the public. Pursuant to the Federal Advisory Committee Act of 1972 and 41 CFR 102-3.140(c), members of the public or interested groups may submit written statements to the advisory committee for consideration by the committee members. Written statements should be no longer than two type-written pages and sent via fax to (703) 614-8920 by 5 p.m. EST on Tuesday, October 30, 2007 for consideration at this meeting. In addition, public comments by individuals and organizations may be made from 1 p.m. to 1:30 p.m. during the meeting. Public comments will be limited to three minutes each. Anyone desiring to make an oral statement must register by sending a fax to (703) 614-8920 with their name, phone number, e-mail address, and the full text of their comments (no longer than two type-written pages) by 5 p.m. EST on Tuesday, October 30, 2007. The first ten requestors will be notified by 5 p.m. EST on Wednesday, October 31, 2007 of their time to address the Board during the public comment forum. All other comments will be retained for the record. Public seating is limited and will be available on a first come, first serve basis.

Brenda S. Bowen,
Army Federal Register Liaison Officer.

[FR Doc. 07-4947 Filed 10-4-07; 8:45 am]

BILLING CODE 3710-08-M